DEPARTMENT OF ENERGY

Idaho Operations Office; Notice of Availability of Solicitation for Awards of Financial Assistance Solicitation Number DE-PS07-00ID13909—Petroleum Industries Vision of the Future

AGENCY: Idaho Operations Office, DOE.

ACTION: Notice of availability of solicitation.

SUMMARY: The U.S. Department of Energy (DOE), Idaho Operations Office (ID), is seeking applications for cost-shared research and development of technologies which will reduce energy consumption, reduce environmental impacts and enhance economic competitiveness of the domestic downstream (refining) sector of the Petroleum Industry. The research is to address downstream (refining) research priorities identified by the Petroleum Industry in the areas of Energy and Process Efficiency, Materials and Inspection Technology and Environmental Performance.

DATES: The deadline for receipt of full applications is May 17, 2000, at 3:00 p.m. MST.

ADDRESSES: Applications should be submitted to: Procurement Services Division, U. S. DOE, Idaho Operations Office, Attention: Carol Van Lente [DE-PS07-00ID13909], 850 Energy Drive, MS 1221, Idaho Falls, Idaho 83401-1563.

FOR FURTHER INFORMATION CONTACT: Carol Van Lente, Contract Specialist, by facsimile at (208) 526-5548, e-mail: vanlencl@id.doe.gov, or by telephone at (208) 526-1534, Dallas L. Hoffer, Contracting Officer at hofferdl@id.doe.gov.

SUPPLEMENTARY INFORMATION: The Petroleum Vision and Roadmap are located at http://www.oit.doe.gov/petroleum/. Approximately $2,250,000 of funding will be available to fund the first year of selected research efforts. DOE anticipates making 4 or more cooperative agreement awards each with a duration of three years or less. A minimum 50% non-federal cost share is required for research and development projects over the life of the project. First year cost share can be as low as 30% if subsequent years have sufficient cost share so that non-federal share totals at least 50%. Collaborations between industry, university, and National Laboratory participants are encouraged. The issuance date of Solicitation Number DE-PS07-00ID13909 is on or about March 17, 2000. The solicitation is available in its full text via the Internet at the following address: http://www.id.doe.gov/doeid/PSD/proc-div.html. The statutory authority for the program is the Federal Non-Nuclear Energy Research and Development Act of 1974 (Pub. L. 93-577). The Catalog of Federal Domestic Assistance (CFDA) Number for this program is 81.086.

Issued in Idaho Falls on March 14, 2000.
M.L. Adams,
Branch Chief, Contracts and Assistance Branch.

[FR Doc. 00-6917 Filed 3-20-00; 8:45 am]

BILLING CODE 6450-01-P